DEPARTMENT OF THE INTERIOR

Bureau of Land Management

[LLWO240LL11100000]

Notice of Intent To Revise the 1997 Programmatic Agreement With the Advisory Council on Historic Preservation and the National Conference of State Historic Preservation Officers

AGENCY: Bureau of Land Management, Interior.

ACTION: Notice of intent.

SUMMARY: The Bureau of Land Management (BLM) announces its intent to revise the 1997 National Programmatic Agreement (PA) with the Advisory Council on Historic Preservation (ACHP) and the National Conference of State Historic Preservation Officers (NCSHPO) regarding the manner in which the BLM meets its responsibilities under the National Historic Preservation Act.

DATES: You may submit written comments to help inform the PA revision process by January 28, 2010.

ADDRESSES: Send written comments to: Robin Burgess, BLM Preservation Officer, U.S. Department of the Interior, Bureau of Land Management, 1849 C Street, NW., Mail Stop 204-LS, Washington, DC 20240 or robin_burgess@blm.gov. Copies of the existing PA, the addendum to the PA, and draft revision strategy are available upon request from this address and are also available at http://www.blm.gov/wo/st/en/prog/more/CRM/historic_preservationx.html.

FOR FURTHER INFORMATION CONTACT: Robin Burgess, BLM Preservation Officer, U.S. Department of the Interior, Bureau of Land Management, 1849 C Street NW., Mail Stop 204-LS, Washington, DC 20240, telephone: (202) 912-7241, or e-mail: robin_burgess@blm.gov.

SUPPLEMENTARY INFORMATION: The BLM 1997 National PA authorizes the BLM to follow an alternative to the process in the ACHP's regulations, 36 CFR part 800, for meeting its responsibilities under Section 106 of the National Historic Preservation Act (Pub. L. 89-665, October 15, 1966; 16 U.S.C. 470 et seq.) (NHPA) for consulting with State Historic Preservation Officers (SHPOs) and the ACHP. Development of such alternative processes are provided for in 36 CFR part 800.14. The key goals of the PA are to make the process under Section 106 more efficient, and to strengthen the partnerships between the BLM and the states, especially those states in which public lands represent a high percentage of land within the state, to facilitate and conduct preservation activities of mutual interest. The PA does not apply to tribal lands and does not alter the BLM's tribal consultation policies and procedures outlined in BLM Manual Section 8120 and BLM Handbook Section H-8120-1, as revised in December 2004.

The PA provides that signatories are to review its implementation biennially and meet to resolve objections. The signatories may revise or amend the PA by mutual agreement, or terminate the PA following 90 days notice. The NCSHPO, its BLM task force, and the BLM have worked closely to identify ideas for improved implementation of the PA. A joint working group developed a list of recommendations, which the BLM Preservation Board endorsed and the BLM is in the process of implementing those recommendations.

The ACHP, its Native American Advisory Group, the National Congress of American Indians, and others believe that tribes would benefit from playing a greater role in the PA. In response, the BLM wrote to tribal leaders and held a series of eight regional listening sessions to discuss its tribal consultation guidance and the PA. Tribes were asked to share their ideas on how to improve the BLM's relationship with their tribes and how to make tribal consultation more effective, including specific revisions to the PA, protocols, or agency policies. The final result of this outreach will be used to develop a series of recommendations for BLM leadership to improve tribal consultation generally and revise the PA.

On February 4, 2009, the BLM, ACHP, and NCSHPO executed an addendum to the PA (dated January 5, 2009) that outlined a series of major milestones for completing the BLM's ongoing tribal consultation outreach effort, consolidating the results of that effort, and developing revisions to the PA as informed by the results of this outreach to Native Americans. This notice fulfills one of those milestones—formal initiation of the public notification process for revising the PA.

In addition to this notice, the BLM has mailed a summary report on the BLM 2008-09 listening sessions and a draft strategy revising the PA, taking into account the results of the BLM's tribal consultation outreach initiative. The draft strategy identifies the following key goals for a revised PA:

• Ensure terminology is consistent with definitions in 36 CFR 800.16 (definitions section);

• Elaborate what the tribal role in the NHPA Section 106 process is;

• Specify alternative procedures for undertakings excepted from the normal alternative process;

• Incorporate a process for partnering with tribes through individual protocols between a tribe and the BLM state office(s). BLM-SHPO protocols authorized by the current PA streamline BLM-SHPO consultation to allow individualized arrangements, but do not alter the BLM's tribal consultation requirements;

• Clarify the roles of consulting parties and expectations for public outreach processes;

• Integrate the concept of phased Section 106 compliance into the PA to clarify how the BLM meets its compliance obligations for large scale projects and programs;

• Provide clear guidance on when new alternative procedures require ACHP involvement;

• Incorporate communication processes for collaborating on NHPA Section 110 and other proactive work, including coordination with state preservation plans and priorities;

• Include a process for using the 36 CFR part 800 procedures as an alternative to the PA;

• Review the process for development of BLM policy affecting Section 106 activities and general management, as outlined in Component 5.f of the 1997 PA, and clarify the role of the BLM Preservation Board;

• Establish PA monitoring milestones and processes, including periodic tribal consultation; clarification of field office certification process; and standardized annual reports to states and PA signatories;

• Identify opportunities for participation of tribes, states, and the ACHP in BLM training related to cultural resources planning, compliance, and management;

• Develop a schedule for review and revision of state protocols; and

• Increase the efficiency of the annual reporting process by aligning it with other reporting requirements, such as the Secretary of the Interior's Report to Congress on Federal Archaeological Activities.

Written comments on the BLM's plan to revise the PA should be specific and confined to the PA revision. Where possible, comments should reference the specific section or paragraph of the draft strategy that the commenter is addressing.

Before including your address, phone number, e-mail address, or other personal identifying information in your comment, you should be aware that your entire comment—including your personal identifying information—may be made publicly available at any time. While you can ask us in your comment to withhold your personal identifying information from public review, we cannot guarantee that we will be able to do so.

Richard C. Hanes,
Acting Assistant Director, Renewable Resources and Planning.

[FR Doc. E9-30771 Filed 12-28-09; 8:45 am]

BILLING CODE 4310-84-P